DEPARTMENT OF THE INTERIOR

Bureau of Indian Affairs

Indian Gaming

AGENCY: Bureau of Indian Affairs, Interior.

ACTION: Notice of approved extension to tribal-state gaming compact.

SUMMARY: Pursuant to section 11 of the Indian Gaming Regulatory Act of 1988 (IGRA), Pub. L. 100-497, 25 U.S.C. 2710, the Secretary of the Interior shall publish, in the Federal Register, notice of approved Tribal-State Compacts for the purpose of engaging in Class III gaming activities on Indian lands. The Assistant Secretary—Indian Affairs, Department of the Interior, through his delegated authority, has approved the Extension of the Tribal-State Compact for the conduct of Class III Gaming between the Coushatta Tribe and the State of Louisiana executed on November 16, 2000.

DATES: This action is effective on December 8, 2000.

FOR FURTHER INFORMATION CONTACT: George T. Skibine, Director, Office of Indian Gaming Management, Bureau of Indian Affairs, Washington, DC 20240, (202) 219-4066.

Dated: December 1, 2000.
Kevin Gover,
Assistant Secretary—Indian Affairs.

[FR Doc. 00-31305 Filed 12-7-00; 8:45 am]

BILLING CODE 4310-02-P